DEPARTMENT OF AGRICULTURE

Agricultural Marketing Service

[Doc. No. AMS-NOP-14-0062; NOP-14-01]

National Organic Program: Notice of Draft Guidance for Accredited Certifying Agents, Certified Operations and Applicants for Organic Certification

AGENCY: Agricultural Marketing Service, USDA.

ACTION: Notice of availability of draft guidance with request for comments.

SUMMARY: The National Organic Program (NOP) is announcing the availability of a draft guidance document intended for use by accredited certifying agents and certified operations. The draft guidance document is entitled as follows: Natural Resources and Biodiversity Conservation for Certified Organic Operations (NOP 5020). This draft guidance document is intended to inform the public of NOP's current thinking on this topic. The Agricultural Marketing Service (AMS) invites organic producers, handlers, certifying agents, material evaluation programs, consumers and other interested parties to submit comments about these guidance provisions.

A notice of availability of final guidance on this topic will be issued upon its final approval. Once finalized, this guidance document will be available from the NOP through, “The Program Handbook: Guidance and Instructions for Accredited Certifying Agents (ACAs) and Certified Operations.” This Handbook provides those who own, manage, or certify organic operations with guidance and instructions that can assist them in complying with the USDA organic regulations. The current addition of the Program Handbook is available online at: http://www.ams.usda.gov/nop or in print upon request.

DATES: Comments must be submitted on or before February 27, 2015.

ADDRESSES: Submit written requests for hard copies of this draft guidance document to Stacy Jones King, Agricultural Marketing Specialist, National Organic Program, USDA-AMS-NOP, 1400 Independence Ave. SW., Room 2646—So., Ag Stop 0268, Washington, DC 20250-0268. See the SUPPLEMENTARY INFORMATION section for electronic access to the draft guidance documents.

Interested persons may submit comments on this draft guidance document using the following procedures:

• Federal eRulemaking Portal: http://www.regulations.gov. Follow the instructions for submitting comments.

• Mail: Stacy Jones King, Agricultural Marketing Specialist, National Organic Program, USDA-AMS-NOP, 1400 Independence Ave. SW., Room 2646—So., Ag Stop 0268, Washington, DC 20250-0268.

Written comments responding to this request should be identified with the document number AMS-NOP-14-0062; NOP-14-01. You should clearly indicate your position and the reasons supporting your position. If you are suggesting changes to the draft guidance document, you should include recommended language changes, as appropriate, along with any relevant supporting documentation.

USDA intends to make available all comments, including names and addresses when provided, regardless of submission procedure used, on www.regulations.gov and at USDA, AMS, NOP, Room 2646—South building, 1400 Independence Ave. SW., Washington, DC, from 9 a.m. to noon and from 1 to 4 p.m., Monday through Friday (except official Federal holidays). Persons wanting to visit the USDA South building to view comments from the public to this notice are requested to make an appointment by calling (202) 720-3252.

FOR FURTHER INFORMATION CONTACT: Shannon Nally Yanessa, Acting Director, Standards Division, National Organic Program (NOP), USDA-AMS-NOP, 1400 Independence Ave. SW., Room 2646—So., Ag Stop 0268, Washington, DC 20250-0268, Telephone: (202) 720-3252, Email: NOP.Guidance@ams.usda.gov, or visit the NOP Web site at: www.ams.usda.gov/nop.

SUPPLEMENTARY INFORMATION:

I. Background

The draft guidance document announced through this notice was developed in response to a May 2009 request from the National Organic Standards Board (NOSB) that AMS clarify the requirements and limitations of the general natural resources and biodiversity conservation requirement of the USDA organic regulations (7 CFR part 205). 7 CFR. 205.200 requires operations to “maintain or improve the natural resources of the operation, including soil and water quality.” Section 205.2 of the USDA organic regulations defines “natural resources of the operation” as the “physical, hydrological, and biological features of a production operation, including soil, water, wetlands, woodlands, and wildlife.”

This draft guidance provides examples of production practices that support these conservation principles and demonstrate compliance with 7 CFR. 205.200. This guidance also clarifies: (1) The certified organic operator's responsibility to select, carry out, and record production practices that “maintain or improve the natural resources of the operation;” (2) the accredited certifying agent's responsibility to verify operator compliance with this requirement; and (3) how domestic organic operations that participate in a USDA Natural Resources Conservation Service (NRCS) program and the NOP can reduce their paperwork burdens.

II. Significance of Guidance

This draft guidance document is being issued in accordance with the Office of Management and Budget (OMB) Bulletin on Agency Good Guidance Practices (GGPs) (January 25, 2007, 72 FR 3432-3440).

The purpose of GGPs is to ensure that program guidance documents are developed with adequate public participation, are readily available to the public, and are not applied as binding requirements. The draft guidance, when finalized, will represent the NOP's current thinking on these topics. It does not create or confer any rights for, or on, any person and does not operate to bind the NOP or the public. Guidance documents are intended to provide a uniform method for operations to comply that can reduce the burden of developing their own methods and simplify audits and inspections. Alternative approaches that can demonstrate compliance with the Organic Foods Production Act (OFPA), as amended (7 U.S.C. 6501-6522), and its implementing regulations are also acceptable. The NOP strongly encourages industry to discuss alternative approaches with the NOP before implementing them to avoid unnecessary or wasteful expenditures of resources and to ensure the proposed alternative approach complies with the Act and its implementing regulations.

III. Electronic Access

Persons with access to Internet may obtain the draft guidance at either NOP's Web site at http://www.ams.usda.gov/nop or http://www.regulations.gov.

Requests for hard copies of the draft guidance documents can be obtained by submitting a written request to the person listed in the ADDRESSES section of this Notice.

Authority: 7 U.S.C. 6501-6522.

Dated: December 22, 2014.
Rex A. Barnes,
Associate Administrator, Agricultural Marketing Service.

[FR Doc. 2014-30303 Filed 12-24-14; 8:45 am]

BILLING CODE 3410-02-P